DEPARTMENT OF TRANSPORTATION

Maritime Administration

[Docket No. 2013-0156]

Determination of Availability of Coastwise Qualified Vessels for the Transportation of a Platform Jacket

AGENCY: Maritime Administration, Department of Transportation.

ACTION: Notice and request for comments.

SUMMARY: As authorized by 46 U.S.C. 55108, the Secretary of Transportation, as represented by the Maritime Administration (MARAD), is authorized to make determinations permitting the use of a foreign launch barge in support of a Platform Jacket launch operation if no suitable coastwise qualified vessels are found to be available. A complete description of the process for determining the availability of coastwise qualified vessels for the transportation of Platform Jackets, including definitions and requirements, can be found at 46 CFR part 389.

In order for MARAD to determine whether a suitable coastwise qualified vessel is available, this notice in the Federal Register requests that comments and information on the availability of coastwise qualified vessels for a Platform Jacket launch be submitted within 30 days of this notice's publication. Our goal is to provide a final determination within 90 days of the publication of this notice, unless a suitable coastwise qualified vessel operator comes forward with a vessel and additional time is needed for negotiation. If, after the comment period, we determine that a suitable coastwise qualified vessel is not available for the specific project requested, a determination of non-availability will be issued allowing a foreign launch barge to load, transport and launch the Platform Jacket.

DATES: Please submit information regarding suitable and available coastwise qualified vessels for the transportation of this Platform Jacket no later than January 27, 2014.

FOR FURTHER INFORMATION CONTACT: Michael Hokana, Office of Cargo Preference and Domestic Trade, Maritime Administration, MAR-730, 1200 New Jersey Avenue SE., Washington, DC 20590. Telephone 202-366-0760; email: Michael.Hokana@dot.gov.

SUPPLEMENTARY INFORMATION: All relevant information reasonably necessary to assess the transportation requirements for the Platform Jacket is available upon request to owners, operators and representatives of coastwise qualified vessels or other interested parties.

Walter Oil & Gas Corporation is seeking MARAD's permission to use a foreign launch barge in transporting and launching a Platform Jacket on the Outer Continental Shelf in the Gulf of Mexico. The Platform Jacket will be loaded at a facility to be determined along the Gulf of Mexico coast and will be unloaded at a point in the Ewing Bank Area on the Outer Continental Shelf of the Gulf of Mexico. The projected transportation will occur during the period of September through December 2015. The Platform Jacket has a total height of 1,223 feet, a vertical height of 1,211 feet, and a weight of 27,679 long tons. The Platform Jacket is 45 feet by 150 feet at the top and 330 feet by 330 feet at the bottom. If MARAD cannot identify an available coastwise qualified vessel suitable for this project within 30 days of the publication of this notice, MARAD is authorized to make a determination of non-availability and allow the use of a foreign launch barge to load, transport and launch the Platform Jacket.

If a coastwise qualified vessel operator expresses interest, MARAD will review the availability assertion and will facilitate discussions between the coastwise qualified vessel operator and the Platform Jacket owner requiring transportation service. MARAD determinations under this notice shall be limited solely to Walter Oil & Gas Corporation's request and shall have no precedential effect on other transportation under 46 U.S.C. Chapter 551.

Authority: 46 U.S.C. 55108; 46 CFR 389.5.

By Order of the Maritime Administrator.
Dated: December 17, 2013.
Julie P. Agarwal,
Secretary, Maritime Administration.

[FR Doc. 2013-30686 Filed 12-24-13; 8:45 am]

BILLING CODE 4910-81-P